DEPARTMENT OF TRANSPORTATION

Federal Motor Carrier Safety Administration

[Docket No. FMCSA-2014-0304]

Qualification of Drivers; Exemption Applications; Vision

AGENCY: Federal Motor Carrier Safety Administration (FMCSA), DOT.

ACTION: Notice of applications for exemptions, request for comments.

SUMMARY: FMCSA announces receipt of applications from 28 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 17, 2015. All comments will be investigated by FMCSA. The exemptions will be issued the day after the comment period closes.

ADDRESSES: You may submit comments bearing the Federal Docket Management System (FDMS) Docket No. FMCSA-2014-0304 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 28 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Dakota A. Albrecht

Mr. Albrecht, 27, has a retinal scar in his right eye due to a traumatic incident in 2010. The visual acuity in his right eye is 20/150, and in his left eye, 20/15. Following an examination in 2014, his optometrist stated, “It is our opinion that he has sufficient vision to perform the driving tasks required to operate a commercial vehicle.” Mr. Albrecht reported that he has driven tractor-trailer combinations for 7 years, accumulating 700,000 miles. He holds a Class A CDL from Minnesota. His driving record for the last 3 years shows no crashes and no convictions for moving violations in a CMV.

Joseph L. Beverly

Mr. Beverly, 58, has had complete loss of vision in his right eye since 2011 due to a central retinal artery occlusion. The visual acuity in his right eye is counting fingers, and in his left eye, 20/20. Following an examination in 2014, his ophthalmologist stated, “It is my medical opinion as an ophthalmologist that Mr. Beverly has sufficient vision to perform the driving tasks required to operate a commercial vehicle.” Mr. Beverly reported that he has driven tractor-trailer combinations for 16 years, accumulating 960,000 miles. He holds an operator's license from Florida. His driving record for the last 3 years shows no crashes and one conviction for a moving violation in a CMV; he exceeded the speed limit by 21 miles per hour.

Jaroslav Cigler

Mr. Cigler, 64, has had a branch retinal vein occlusion in his right eye since 2011. The visual acuity in his right eye is 20/80, and in his left eye, 20/20. Following an examination in 2014, his optometrist stated, “Dr. Komyatte certifies that in her medical opinion, Mr. Cigler has sufficient vision to perform the driving tasks required to operate a commercial vehicle.” Mr. Cigler reported that he has driven tractor-trailer combinations for 20 years, accumulating 2.6 million miles. He holds an operator's license from Indiana. His driving record for the last 3 years shows one crash, for which he was not cited and did not contribute, and two convictions for moving violations in a CMV; in one instance he disregarded a traffic signal, and in another he was cited for improper lane usage.

David E. Crane

Mr. Crane, 59, has had amblyopia in his right eye since birth. The visual acuity in his right eye is 20/80, and in his left eye, 20/25. Following an examination in 2014, his optometrist stated, “I also certify that he has sufficient vision to perform the driving tasks required to operate a commercial vehicle.” Mr. Crane reported that he has driven straight trucks for 28 years, accumulating 700,000 miles. He holds a Class A CDL from Ohio. His driving record for the last 3 years shows no crashes and one conviction for a moving violation in a CMV; he was operating a CMV in a no truck zone.

Alan J. Daisey

Mr. Daisey, 63, has complete loss of vision in his left eye due to a traumatic incident in childhood. The visual acuity in his right eye is 20/20, and in his left eye, no light perception. Following an examination in 2014, his optometrist stated, “Mr. Daisey's vision is good enough to have a commercial license.” Mr. Daisey reported that he has driven straight trucks for 18 years, accumulating 18,000 miles. He holds a Class CB CDL from Delaware. His driving record for the last 3 years shows no crashes and no convictions for moving violations in a CMV.

Terry L. Daneau

Mr. Daneau, 54, has had amblyopia in his left eye since birth. The visual acuity in his right eye is 20/20, and in his left eye, 20/300. Following an examination in 2014, his optometrist stated, “I believe that Terry Daneau possesses sufficient vision to maintain a CDL as long as glasses are worn.” Mr. Daneau reported that he has driven straight trucks for 16 years, accumulating 800,000 miles. He holds a Class B MC CDL from New Hampshire. His driving record for the last 3 years shows no crashes and no convictions for moving violations in a CMV.

Ronald A. Doyle

Mr. Doyle, 53, has had a corneal scar in his right eye since 1985. The visual acuity in his right eye is 20/60, and in his left eye, 20/25. Following an examination in 2014, his optometrist stated, “Upon examining patient I certify that in my medical opinion, has sufficient vision to perform the driving tasks required to operate a commercial vehicle with a license (non-CDL) as explained in #1 Proof of Commercial License.” Mr. Doyle reported that he has driven straight trucks for 14 years, accumulating 121,422 miles. He holds a Class D license from New York. His driving record for the last 3 years shows no crashes and no convictions for moving violations in a CMV.

Darin T. Eubank

Mr. Eubank, 25, has had refractive amblyopia in his right eye since birth. The visual acuity in his right eye is 20/400, and in his left eye, 20/20. Following an examination in 2014, his optometrist stated, “Darin has sufficient vision to drive a commercial vehicle.” Mr. Eubank reported that he has driven straight trucks for 9 years, accumulating 51,300 miles, and tractor-trailer combinations for 5 years, accumulating 17,500 miles. He holds a Class A CDL from Virginia. His driving record for the last 3 years shows no crashes and no convictions for moving violations in a CMV.

Dan J. Feik

Mr. Feik, 53, has a prosthetic left eye due to a traumatic incident in 1989. The visual acuity in his right eye is 20/15, and in his left eye, no light perception. Following an examination in 2015, his ophthalmologist stated, “It is my opinion that Mr. Feik has excellent peripheral vision and visual acuity in the right eye to perform the tasks required of him to operate a commercial vehicle without reservations.” Mr. Feik reported that he has driven straight trucks for 8 years, accumulating 380,000 miles. He holds a Class BM CDL from Illinois. His driving record for the last 3 years shows no crashes and no convictions for moving violations in a CMV.

Phillip E. Fitzpatrick

Mr. Fitzpatrick, 38, has had amblyopia in his left eye since childhood. The visual acuity in his right eye is 20/20, and in his left eye, 20/70. Following an examination in 2014, his optometrist stated, “Based on the longstanding nature of Phillip's amblyopia in the left eye and the fact he has had a CDL for a number of years I believe that Phillip can safely and effectively operate a vehicle that requires a CDL.” Mr. Fitzpatrick reported that he has driven straight trucks for 18 years, accumulating 90,000 miles. He holds a Class B CDL from New Mexico. His driving record for the last 3 years shows no crashes and no convictions for moving violations in a CMV.

William H. Fleming

Mr. Fleming, 68, has had a branch vein occlusion in his right eye since 2012. The visual acuity in his right eye is 20/60, and in his left eye, 20/25. Following an examination in 2014, his optometrist stated, “In my medical opinion,

William Fleming has sufficient vision to perform the driving task required to operate a commercial vehicle.” Mr. Fleming reported that he has driven buses for 3 years, accumulating 78,000 miles. He holds a Class B CDL from Oregon. His driving record for the last 3 years shows no crashes and no convictions for moving violations in a CMV.

Lucien W. Foote III

Mr. Foote, 61, has had exotropia with amblyopia in his left eye since childhood. The visual acuity in his right eye is 20/25, and in his left eye, 20/80. Following an examination in 2014, his optometrist stated, “In my medical opinion, he has sufficient vision to perform the necessary driving tasks for a commercial vehicle.”

Mr. Foote reported that he has driven straight trucks for 29 years, accumulating 435,000 miles. He holds a Class A MC CDL from New Hampshire. His driving record for the last 3 years shows no crashes and no convictions for moving violations in a CMV.

Jimmy F. Garrett

Mr. Garrett, 61, has complete loss of vision in his right eye due to a traumatic incident in 1974. The visual acuity in his right eye is no light perception, and in his left eye, 20/20. Following an examination in 2015, his optometrist stated, “Due to his driving record and excellent vision in his left eye I feel Jimmy can operate a commercial vehicle safely.” Mr. Garrett reported that he has driven straight trucks for 6 years, accumulating 36,000 miles, and tractor-trailer combinations for 26 years, accumulating 2.34 million miles. He holds a Class A CDL from Arkansas. His driving record for the last 3 years shows no crashes and no convictions for moving violations in a CMV.

Odus P. Gautney III

Mr. Gautney, 61, has had glaucoma in his left eye since 1983. The visual acuity in his right eye is 2030, and in his left eye, 20/400. Following an examination in 2014, his ophthalmologist stated, “The above named patient has had the diagnosis of glaucoma for over 30 years . . . The patient can perform all tasks required to maintain CDL certification.” Mr. Gautney reported that he has driven tractor-trailer combinations for 18 years, accumulating 1.8 million miles. He holds a Class AM CDL from Texas. His driving record for the last 3 years shows no crashes and no convictions for moving violations in a CMV.

Dale R. Goodell

Mr. Goodell, 73, has glaucoma in his left eye due to a traumatic incident in 1991. The visual acuity in his right eye is 20/20, and in his left eye, counting fingers. Following an examination in 2014, his optometrist stated, “Attn: Vision Program U.S. Dept of Transportation . . . Considering the fact this vision defect in the left eye is longstanding I would state Dale has over time adapted to the loss of vision and should continue to be able to operate a motor vehicle safely.” Mr. Goodell reported that he has driven straight trucks for 56 years, accumulating 5.6 million miles, and tractor-trailer combinations for 42 years, accumulating 1.05 million miles. He holds a Class A CDL from South Dakota. His driving record for the last 3 years shows no crashes and no convictions for moving violations in a CMV.

Elmer Y. Mendoza

Mr. Mendoza, 35, has had histoplasmosis in his right eye since childhood. The visual acuity in his right eye is 20/100, and in his left eye, 20/20. Following an examination in 201X, his optometrist stated, “I believe Mr. Mendoza does have sufficient vision required for CDL.” Mr. Mendoza reported that he has driven tractor-trailer combinations for nine years, accumulating 954,000 miles. He holds a Class A CDL from Virginia. His driving record for the last 3 years shows no crashes and no convictions for moving violations in a CMV.

Andrew M. Miller

Mr. Miller, 60, has retinal detachment in his right eye due to a traumatic incident in 1972. The visual acuity in his right eye is light perception, and in his left eye, 20/20. Following an examination in 2014, his optometrist stated, “He is able to perform the required visual tasks associated with commercial driving skills.” Mr. Miller reported that he has driven straight trucks for 10 years, accumulating 110,000 miles. He holds an operator's license from Iowa. His driving record for the last 3 years shows no crashes and no convictions for moving violations in a CMV.

Richard N. Moyer, Jr.

Mr. Moyer, 47, has had a retinal detachment in his left eye since 1990. The visual acuity in his right eye is 20/20, and in his left eye, 20/200. Following an examination in 2015, his ophthalmologist stated, “Field is full od and doesn't compromise his ability to function as a commercial driver.” Mr. Moyer reported that he has driven straight trucks for 29 years, accumulating 870,000 miles, and tractor-trailer combinations for 26 years, accumulating 260,000 miles. He holds a Class AM CDL from Pennsylvania. His driving record for the last 3 years shows no crashes and no convictions for moving violations in a CMV.

Heath A. Pillig

Mr. Pillig, 43, has had anisometropia with amblyopia in his left eye since childhood. The visual acuity in his right eye is 20/20, and in his left eye, 20/100. Following an examination in 2014, his ophthalmologist stated, “Given his history and current visual acuity I feel he has sufficient vision to perform the driving tasks required to operate a commercial vehicle.” Mr. Pillig reported that he has driven straight trucks for 7.5 years, accumulating 881,250 miles, and tractor-trailer combinations for 13 years, accumulating 1.53 million miles. He holds a Class A CDL from Washington. His driving record for the last 3 years shows no crashes and no convictions for moving violations in a CMV.

Alonzo K. Rawls

Mr. Rawls, 46, has had amblyopia in his left eye since childhood. The visual acuity in his right eye is 20/20, and in his left eye, 20/400. Following an examination in 2015, his ophthalmologist stated, “Patient has a corneal scar from an accident OS in 1990. Vision has been poor since then. Patient obtained a commercial license in 2008 and 2010, but needs re-evaluation to see if he qualifies for an exemption for a CDL license. The patient, based upon his examination today, does not meet the requirements for a CDL. However, the patient has had a CDL in the past with no accidnets on record. If appropriate, the patient would desire a road test to prove his ability to safely drive and quality [sic] for an exemption.” Mr. Rawls reported that he has driven straight trucks for 3 years, accumulating 18,375 miles. He holds a Class A CDL from New Jersey. His driving record for the last 3 years shows one crash, for which he was not cited and to which he did not contribute, and no convictions for moving violations in a CMV.

John R. Ropp

Mr. Ropp, 72, has had histoplasmosis in his left eye since 1973. The visual acuity in his right eye is 20/20, and in his left eye, light perception. Following an examination in 2014, his optometrist stated, “In my opinion I believe with his record of 30 plus years without an accident or moving violation I don't feel his vision will be a concern in regards to driving a commercial vehicle.” Mr. Ropp reported that he has driven straight trucks for 34 years, accumulating 68,000 miles, and tractor-trailer combinations for 34 years, accumulating 68,000 miles. He holds a Class A CDL from Illinois. His driving record for the last 3 years shows no crashes and no convictions for moving violations in a CMV.

Timothy J. Slone

Mr. Slone, 51, has a prosthetic right eye due to a traumatic incident in childhood. The visual acuity in his right eye is no light perception, and in his left eye, 20/20. Following an examination in 2014, his optometrist stated, “Mr. Slone has sufficient vision to operate a commercial vehicle under the following restrictions (a) spectacle RX (b) passenger mirror.” Mr. Slone reported that he has driven straight trucks for 35 years, accumulating 1.75 million miles. He holds an operator's license from Kentucky. His driving record for the last 3 years shows no crashes and no convictions for moving violations in a CMV.

David L. Sorensen

Mr. Sorensen, 57, has complete loss of vision in his right eye due to a traumatic incident at birth. The visual acuity in his right eye is counting fingers, and in his left eye, 20/20. Following an examination in 2014, his optometrist stated, “I would also state in my medical opinion Mr. Sorensen is able to safely operate a commercial vehicle. There is a longstanding history of loss of vision in the right eye associated with trauma resulting in loss of vision in the right eye.” Mr. Sorensen reported that he has driven straight trucks for 20 years, accumulating 40,000 miles, and tractor-trailer combinations for 11 years, accumulating 33,000 miles. He holds a Class A CDL from Nebraska. His driving record for the last 3 years shows no crashes and no convictions for moving violations in a CMV.

Nelson J. Stokke

Mr. Stokke, 54, has complete loss of vision in his left eye due to a traumatic incident in 2005. The visual acuity in his right eye is 20/20, and in his left eye, light perception. Following an examination in 2014, his ophthalmologist stated, “In summary, this 53 year old commercial truck driver has adequate vision to continue driving a commercial vehicle in my opinion.” Mr. Stokke reported that he has driven tractor-trailer combinations for 29 years, accumulating 1.37 million miles. He holds a Class A CDL from California. His driving record for the last 3 years shows no crashes and no convictions for moving violations in a CMV.

Darwin L. Stuart

Mr. Stuart, 55, has had amblyopia in his left eye since childhood. The visual acuity in his right eye is 20/20, and in his left eye, 20/350. Following an examination in 2014, his optometrist stated, “In my opinion Mr. Stuart has sufficient vision to perform [sic] driving tasks required to operate a commercial vehicle.” Mr. Stuart reported that he has driven straight trucks for 23 years, accumulating 115,000 miles, and tractor-trailer combinations for 8 years, accumulating 60,000 miles. He holds a Class AM CDL from Illinois. His driving record for the last 3 years shows no crashes and no convictions for moving violations in a CMV.

Ivan Tlumach

Mr. Tlumach, 45, has had amblyopia in his right eye since childhood. The visual acuity in his right eye is 20/100, and in his left eye, 20/20. Following an examination in 2014, his ophthalmologist stated, “At this time, from a medical standpoint, he has sufficient vision needed to continue to perform the driving tasks required to operate a commercial motor vehicle.” Mr. Tlumach reported that he has driven straight trucks for 12 years, accumulating 144,000 miles. He holds an operator's license from Pennsylvania. His driving record for the last 3 years shows no crashes and no convictions for moving violations in a CMV.

Clarence K. Watkins

Mr. Watkins, 74, has/has had amblyopia in his left eye since childhood. The visual acuity in his right eye is 20/25, and in his left eye, 20/400. Following an examination in 2014, his ophthalmologist stated, “Pt's [sic] vision is currently as good as it has ever been with 20/25 visual acuity in his right eye and 20/400 vision in his left eye. Pt's [sic] ability to drive commercial truck at this time would be no different than his ability has been over the past 5 decades.” Mr. Watkins reported that he has driven straight trucks for 55 years, accumulating 550,000 miles, and tractor-trailer combinations for 56 years, accumulating 112,000 miles. He holds a Class A CDL from Tennessee. His driving record for the last 3 years shows no crashes and no convictions for moving violations in a CMV.

Kevin D. Zaloudek

Mr. Zaloudek, 43, has a damaged cornea and retina in his right eye due to a traumatic incident in childhood. The visual acuity in his right eye is counting fingers, and in his left eye, 20/15. Following an examination in 2014, his optometrist stated, “In my opinion Kevin Zaludek's vision is sufficient for him to safely operate a commercial vehicle.” Mr. Zaloudek reported that he has driven straight trucks for 15 years, accumulating 225,000 miles. He holds an operator's license from Vermont. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0304 in the “Keyword” box, and click “Search.'' When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0304 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: March 12, 2015.
Larry W. Minor,
Associate Administrator for Policy.

[FR Doc. 2015-06179 Filed 3-17-15; 8:45 am]

BILLING CODE 4910-EX-P